SMALL BUSINESS ADMINISTRATION

[License No. 04/04-0298]

Harbert Mezzanine Partners II SBIC, L.P.; Notice Seeking Exemption Under 312 of the Small Business Investment Act, Conflicts of Interest

Notice is hereby given that Harbert Mezzanine Partners II SBIC, L.P. One Riverchase Parkway South, Birmingham, Alabama, 35244, a Federal Licensee under the Small Business Investment Act of 1958, as amended (“the Act”), in connection with the financing of a small concern, has sought an exemption under Section 312 of the Act and Section 107.730, Financings Which Constitute Conflicts of Interest of the Small Business Administration (“SBA”) rules and regulations (13 CFR 107.730 (2003)). Harbert Mezzanine Partners II SBIC, L.P. proposes to provide a loan to Delta CompuTec LLC, 2 Sound View Drive, Suite 100, Greenwich, CT 06830. The financing is contemplated for DCI's expansion through a potential new acquisition.

The financing is brought within the purview of Section 107.730 (a) (1) of the Regulations because Harbinger Mezzanine Partners, LP, an Associate of Harbert Mezzanine Partners II SBIC, L.P., currently owns greater than 10 percent of Delta CompuTec LLC, and therefore, Delta CompuTec LLC, is considered an Associate of Harbert Mezzanine Partners II SBIC, L.P. as defined in Section 105.50 of the regulations.

Notice is hereby given that any interested person may submit written comments on the transaction, within 15 days, to the Associate Administrator for Investment, U.S. Small Business Administration, 409 Third Street, SW., Washington, DC 20416.

Jaime Guzman-Fournier,
Associate Administrator for Investment.

[FR Doc. E7-10990 Filed 6-6-07; 8:45 am]

BILLING CODE 8025-01-P